DEPARTMENT OF THE INTERIOR

National Park Service

Great Sand Dunes National Park Advisory Council Meeting

AGENCY: National Park Service, DOI.

ACTION: Announcement of meeting.

SUMMARY: Great Sand Dunes National Monument and Preserve announces a meeting of the Great Sand Dunes National Park Advisory Council, which was established to provide guidance to the Secretary on long-term planning for Great Sand Dunes National Monument and Preserve.

DATES: The meeting date is:

1. January 12-13, 2004, 9 a.m.-5 p.m., Blanca, CO.

ADDRESSES: The meeting location is:

1. Blanca, Colorado—Blanca Ft. Garland Community Center, 17591 Hwy 160, Blanca, CO 81123.

FOR FURTHER INFORMATION CONTACT: Steve Chaney, (719) 378-6311.

SUPPLEMENTARY INFORMATION: At the fifth meeting of the Great Sand Dunes National Park Advisory Council, the council will learn about resources and opportunity analysis, which involves mapping significant resource areas and includes review of existing information about natural and cultural resources and visitor opportunities.

Hal Grovert,
Acting Regional Director.

[FR Doc. 03-30564 Filed 12-9-03; 8:45 am]

BILLING CODE 4310-66-P